DEPARTMENT OF LABOR

Employment and Training Administration

Workforce Investment Act (WIA) Section 167, the National Farmworker Jobs Program (NFJP)

AGENCY: Employment and Training Administration (ETA), Labor.

ACTION: Notice of formula allocations for the Program Year (PY) 2002 National Farmworker Jobs Program (NFJP), request for comments.

SUMMARY: Under section 182(d) of the Workforce Investment Act (WIA) of 1998, ETA is publishing the PY 2002 allocations for the NFJP authorized under Section 167 of the WIA. The allocations are distributed to the States by a formula that estimates, by state, the relative demand for NFJP services. The allocations in this Notice apply to the program year beginning July 1, 2002.

DATES: Comments must be submitted on or before June 24, 2002.

ADDRESSES: Comments should be sent to Ms. Alicia Fernandez-Mott, Chief, Division of Seasonal Farmworker Programs, Room N-4641, Employment and Training Administration, U.S. Department of Labor, 200 Constitution Avenue, NW., Washington, DC 20210. Her e-mail address is afernandez@doleta.gov.

FOR FURTHER INFORMATION CONTACT: Ms. Alicia Fernandez-Mott, Chief, Division of Seasonal Farmworker Programs, Room N-4641, Employment and Training Administration, U.S. Department of Labor, 200 Constitution Avenue, NW., Washington, DC 20210. Her telephone number is (202) 693-3729. (This is not a toll-free number.)

SUPPLEMENTARY INFORMATION:

I. Background

On May 19, 1999, we published a Notice of a new formula for allocating funds available for the NFJP (formerly referred to as the Section 402 Migrant and Seasonal Farmworker (MSFW) Program) in the Federal Register at 64 FR 27390 (May 19, 1999). The Notice explains how the new formula achieves its purpose of distributing funds geographically by state service area on the basis of each area's relative share of farmworkers who are eligible for enrollment in the NFJP. The new formula consists of a rational combination of multiple data sets that were selected to yield the relative share distribution of eligible farmworkers. The combined-data formula is substantially more relevant to the purpose of aligning the allocations with the eligible population than the allocations determined by the prior formula.

The realignments made by the new formula gave rise to significant changes in relative funding levels. The magnitude of the realignments was substantial for some of the state areas that are scheduled to experience decreases as a result of the transition from the original distributions to the distributions provided by the new formula. To provide a smooth transition to the realigned distributions, Part IV of the May 19, 1999, Notice provided a strategy for phased implementation of the new formula through four incremental “hold harmless” stages. The stages provide a graduated implementation of the formula allocations by limiting the rate of reduction in relative funding levels to the four annual increments of 95 percent of the 1998 level in PY 1999, 90 percent in PY 2000, 85 percent in PY 2001, and 80 percent in PY 2002. Full implementation of the new (combined-data) formula will be reached on the 5th year allocation in PY 2003.

Because it is the best available allocation tool, we continue to implement the new formula by applying the fourth implementation step of the formula described in the May 19, 1999, Notice to allocate PY 2002 WIA Section 167 funds. Section III of this Notice describes how the PY 2002 formula allocations are adjusted to account for the budget additions provided by Congress.

The Department of Labor invites comments on our decision to continue the phased implementation of this formula in allocating PY 2002 funds for the NFJP.

II. Limitations on Uses of Section 167 Funds

In appropriating the funds for PY 2002, Congress provided in its Appropriations Conference Report 107-342, as follows: “That, notwithstanding any other provision of law or related regulation, $80,770,000 shall be for carrying out Section 167 of the Workforce Investment Act, including $74,965,000 for formula grants, $4,786,000 for migrant and seasonal housing, and $1,019,000 for other discretionary purposes * * *.”

III. PY 2002 Allocations

The PY 2002 allocations and the details of how they are made are provided in the Table at the end of this Notice. As in the prior three program years, the base amount selected for allocation under the formula is the PY 1999 allocated amount of $67,596,408. (Refer to column “C” to see the PY 1999 State allocations without the “hold-harmless” adjustments.)

The fourth step (80 percent hold-harmless) allocations are given in column “E”. For comparison with the figures in column “E”, column “F” uses a spreadsheet formula to calculate 80 percent of the PY 1998 allocations.

Sustaining 100 percent of the PY 1998 levels: Additional funding is provided under congressional direction in each of PY's 1999, 2000, 2001 and 2002 that establishes the 1998 level as a minimum level for all states. This requirement is applied cumulatively in PY 2002 to sustain at their 1998 levels those state service areas that receive a declining relative share of funding by the progressively-phased implementation of the new formula. Column “G” shows the additional “make whole” amounts allocated under the congressional recommendation to bring to their PY 1998 levels those State service areas where the demographics reflected under the formula show a smaller relative share of eligible farmworkers. Column “H” shows the total allocations after applying the “make whole” allocations that sustain the PY 1998 levels as the minimum allocation amounts.

A total of $73,120,657 is allocated as the result of applying this requirement. At this stage, the PY 2002 amount allocated is the sum of the fourth (80 percent) step's formula allocation (column “E”) of $67,596,409 and the “make-whole” amount of $5,524,248, which brings all states to a minimum of their PY 1998 levels (column “G”). The total amount allocated at this stage is $1,844,343 less than the $74,965,000 minimum amount reserved in the Conference Report “for formula grants.” For informational purposes, column “I” shows what the allocation of the PY 2002 formula grants would be without adjustments of any kind. PY 2002 is the final step of the graduated phase-in of the new formula. To allocate this additional amount remaining from the amount reserved for the formula grants, the states with a higher amount in Column “I” than Column “H” are identified in column “J” by the entries, taken from column “D”, of the unadjusted formula relative shares. Column “K” shows the calculation of the relative distribution among those states identified in column “J”. Column “L” distributes the $1,844,343 by using the shares determined under column “K”. Column “M” (the sum of columns “H” and “L ”) provides the final NFJP allocations for PY 2002.

IV. Rhode Island and the Minimum Funding Provisions

Part V of the May 19, 1999, Federal Register Notice provides that a state service area allocated less than $60,000 could be combined with an adjoining state service area. As in PY's 2000 and 2001, the PY 2002 Rhode Island area allocation is combined with the Connecticut area allocation.

V. PY 2002 Allocations

Column “M” of the “Allocation Table” provides the allocations for the NFJP in PY 2002. Grantees will use these figures in preparing the PY 2002 NFJP grant plans.

Signed at Washington, DC, this 31st day of May, 2002.
Emily Stover DeRocco,
Assistant Secretary, Employment and Training Administration.

BILLING CODE 4510-30-P

[FR Doc. 02-15070 Filed 6-13-02; 8:45 am]

BILLING CODE 4510-30-C